SECURITIES AND EXCHANGE COMMISSION

[Release No. 34-79860; File No. SR-BatsEDGX-2016-33]

Self-Regulatory Organizations; Bats EDGX Exchange, Inc.; Notice of Withdrawal of a Proposed Rule Change To Adopt an Options Regulatory Fee

January 23, 2017.

On July 20, 2016, Bats EDGX Exchange, Inc. (the “Exchange”) filed with the Securities and Exchange Commission (the “Commission”), pursuant to Section 19(b)(1) of the Securities Exchange Act of 1934 (the “Act”),¹ and Rule 19b-4 thereunder,² a proposed rule change to adopt an Options Regulatory Fee (“ORF”). The proposed rule change was published for comment in the Federal Register on August 5, 2016.³ On September 15, 2016, the Commission temporarily suspended the Exchange's proposal and simultaneously instituted proceedings to determine whether to approve or disapprove the proposed rule change.⁴ The Commission received no comments regarding the proposal.

¹ 15 U.S.C. 78s(b)(1).

² 17 CFR 240.19b-4.

³ See Securities Exchange Act Release No. 78452 (August 1, 2016), 81 FR 51951 (August 5, 2016).

⁴ See Securities Exchange Act Release No. 78850, 81 FR 64963 (September 21, 2016).

On January 10, 2017, the Exchange withdrew the proposed rule change (SR-BatsEDGX-2016-33).

⁵ 17 CFR 200.30-3(a)(12).

For the Commission, by the Division of Trading and Markets, pursuant to delegated authority.⁵
Eduardo A. Aleman,
Assistant Secretary.

[FR Doc. 2017-01830 Filed 1-26-17; 8:45 am]

BILLING CODE 8011-01-P